DEPARTMENT OF ENERGY

Environmental Management Site-Specific Advisory Board, Northern New Mexico

AGENCY: Department of Energy.

ACTION: Notice of open meeting.

SUMMARY: This notice announces a meeting of the Environmental Management Site-Specific Advisory Board (EMSSAB), Northern New Mexico. The Federal Advisory Committee Act (Pub. L. No. 92-463, 86 Stat. 770) requires that public notice of this meeting be announced in the Federal Register.

DATES: Wednesday, January 19, 2005, 1 p.m.-8:30 p.m.

ADDRESSES: Cities of Gold Hotel, 10-A Cities of Gold Road, Pojoaque, NM.

FOR FURTHER INFORMATION CONTACT: Menice Manzanares, Northern New Mexico Citizens' Advisory Board, 1660 Old Pecos Trail, Suite B, Santa Fe, NM 87505. Phone (505) 995-0393; Fax (505) 989-1752 or e-mail: mmanzanares@doeal.gov.

SUPPLEMENTARY INFORMATION:

Purpose of the Board: The purpose of the Board is to make recommendations to DOE in the areas of environmental restoration, waste management, and related activities.

Tentative Agenda

Wednesday, January 19, 2005

1 p.m. Call to Order by Ted Taylor, Deputy Designated Federal Officer (DDFO)

Establishment of a Quorum

Welcome and Introductions by Chairman, Tim DeLong

Approval of Agenda

Approval of Minutes of November 17, 2004 Meeting

1:15 p.m. Board Business

A. Report from Chairman, Tim DeLong

B. Report from Department of Energy, Ted Taylor, DDFO

C. Report from Executive Director, Menice S. Manzanares

D. New Business

2 p.m. Break

2:15 p.m. Reports

A. Executive Committee, Tim DeLong

B. Waste Management Committee, Jim Brannon

C. Environmental Monitoring, Surveillance and Remediation Committee, Chris Timm

D. Community Involvement Committee, Grace Perez

E. Comments from Ex-Officio Members

5 p.m. Dinner Break

6 p.m. Public Comment

6:15 p.m. Consideration and Action on Board Recommendations or Resolutions

6:30 p.m. Presentation on Environmental Management Issues

8 p.m. Comments from Board Members and Recap of Meeting

8:30 p.m. Adjourn

This agenda is subject to change at least one day in advance of the meeting.

Public Participation: The meeting is open to the public. Written statements may be filed with the Board either before or after the meeting. Individuals who wish to make oral statements pertaining to agenda items should contact Menice Manzanares at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments. This notice is being published less than 15 days before the date of the meeting due to programmatic issues.

Minutes: Minutes of this meeting will be available for public review and copying at the Freedom of Information Public Reading Room, 1E-190, Forrestal Building, 1000 Independence Avenue, SW., Washington, DC 20585 between 9 a.m. and 4 p.m., Monday-Friday, except Federal holidays. Minutes will also be available at the Public Reading Room located at the Board's office at 1660 Old Pecos Trail, Suite B, Santa Fe, NM. Hours of operation for the Public Reading Room are 9 a.m.-4 p.m. on Monday through Friday. Minutes will also be made available by writing or calling Menice Manzanares at the Board's office address or telephone number listed above. Minutes and other Board documents are on the Internet at: http://www.nnmcab.org.

Issued at Washington, DC, on January 4, 2005.
Carol Anne Matthews,
Acting Advisory Committee Management Officer.

[FR Doc. 05-432 Filed 1-7-05; 8:45 am]

BILLING CODE 6405-01-P